TENNESSEE VALLEY AUTHORITY

New Caledonia Generation Site Project

AGENCY: Tennessee Valley Authority.

ACTION: Notice of intent.

SUMMARY: The Tennessee Valley Authority (TVA) intends to prepare an environmental assessment (EA) or an environmental impact statement (EIS) under the National Environmental Policy Act (NEPA) to address the potential environmental impacts associated with the proposed construction and operation of a Combustion Turbine (CT) Plant on a parcel of TVA-owned brownfield property in Lowndes County, Mississippi. The proposed New Caledonia Generation Site (NCG) would provide approximately 500 Megawatts (MW) of new generation capacity. The NCG CTs would be composed of six (6) natural gas-fired frame CTs. NCG would provide flexible and dispatchable transmission grid support and facilitate the integration of renewable generation onto the TVA bulk transmission system, consistent with the 2019 Integrated Resource Plan (IRP). Public comment is invited concerning the scope of the environmental review, alternatives being considered, and environmental issues that should be addressed. TVA is also requesting data, information, and analysis relevant to the proposed action from the public; affected Federal, State, Tribal, and local governments, agencies, and offices; the scientific community; industry; or any other interested party.

DATES: The public scoping period begins with the publication of this Notice of Intent in the Federal Register. To ensure consideration, comments must be postmarked, submitted online, or emailed no later than January 19, 2024. To facilitate the scoping process, TVA will hold an in-person public open house from 5 p.m. to 7 p.m. on January 8, 2024, at the Caledonia Community Center; see https://www.tva.com/nepa for more information on the meeting.

ADDRESSES: Written comments should be sent to Erica McLamb, NEPA Compliance Specialist, 1101 Market Street, BR 2C-C, Chattanooga, Tennessee 37402. Comments may also be submitted online at: https://www.tva.com/nepa or by email at nepa@tva.gov. The public meeting will be held at the Caledonia Community Center, located at 205 South St., Caledonia, Mississippi 39740.

FOR FURTHER INFORMATION CONTACT: Erica McLamb by email to nepa@tva.gov, by phone at (423) 751-8022, or by mail at the address above.

SUPPLEMENTARY INFORMATION: This notice is provided in accordance with the Council on Environmental Quality's regulations (40 CFR parts 1500 to 1508) and TVA's procedures for implementing NEPA. TVA is an agency and instrumentality of the United States, established by an act of Congress in 1933, to foster the social and economic welfare of the people of the Tennessee Valley region and to promote the proper use and conservation of the region's natural resources. One component of this mission is the generation, transmission, and sale of reliable and affordable electric energy.

Background

TVA provides electricity for local power companies serving 10 million people in Tennessee and parts of six surrounding States, as well as directly to large industrial customers and Federal installations. TVA is fully self-financed without Federal appropriations and funds virtually all operations through electricity sales and power system bond financing. The dependable electrical capacity on the TVA power system is approximately 38,000 MW. TVA transmits electricity from generating facilities over 16,000 miles of transmission lines.

In June 2019, TVA published an IRP, which was developed with input from stakeholder groups and the public. The 2019 IRP evaluated six scenarios (plausible futures) and five strategies (potential TVA responses to those plausible futures) and identified a range of potential resource additions and retirements throughout the TVA power service area, which encompasses approximately 80,000 square miles. The 2019 IRP identified the potential addition of up to 500 MW of demand response and 2,200 MW of energy efficiency (demand-side options); 4,200 MW of wind; 5,300 MW of storage; 8,600 MW of CT; 9,800 MW of combined cycle (CC); and 14,000 MW of solar by 2038. The 2019 IRP recommendation optimizes TVA's ability to create a more flexible power-generation system that can successfully integrate increasing amounts of renewable energy sources while ensuring reliability. Additionally, the 2019 IRP recommended a series of near-term actions, including evaluating engineering end-of-life dates for aging fossil units, to determine whether retirements greater than 2,200 MW would be appropriate to inform long-term planning. The strategic direction established by the 2019 IRP and results from recommended near-term actions formed the basis for TVA's asset strategy, which continues to support affordable, reliable, and cleaner energy for customers. As a result of resource changes outlined in the asset strategy, TVA has a plan for 70% carbon reductions by 2030, a path to an approximately 80% carbon reductions by 2035 and aspires to net-zero carbon emissions by 2050 (based on a 2005 baseline).

Since the pandemic, TVA has seen a strong increase in electric demand. Population in the TVA service region has grown 1.5%. TVA expects continued strong growth in annual electric demand through the middle of this decade. Forecasted electric demand is expected to grow more than one percent per year on average between 2023-2026. Current system modeling shows that with increased In-Valley residential migration and commercial development, TVA must add generation capacity to the system to maintain adequate operating reserves.

The NCG Site is an approximately 63-acre federally owned brownfield property managed by TVA in Lowndes, Mississippi, located approximately 10 miles northeast of Columbus. The NCG site was the location of a former CT facility, originally constructed in 1998 and operated for several years by a private company. The company decommissioned the facility in 2007, removing the existing six frame CTs from the site. The adjacent TVA Lowndes County 161 kV and 500-kV Substation is approximately 82 acres and has remained in-service. The study area for the proposed action is 145 acres and includes the entire combustion turbine property as well as the adjacent substation property.

TVA is considering constructing and operating a combustion turbine facility (with generation capacity of approximately 500 MW) at the same brownfield location as the previously operated generating facility, which would allow TVA to utilize existing natural gas and transmission infrastructure.

Project Purpose and Need

The purpose of the proposed action is to help provide generation to support continued load growth in the TVA power service area and TVA's decarbonization goals. TVA needs flexible, dispatchable power that can successfully integrate increasing amounts of renewable energy sources while ensuring reliability. The need for the Proposed Action is to ensure that TVA can meet required year-round generation and maximum capacity system demands and planning reserve margin targets.

Preliminary Proposed Action and Alternatives

TVA anticipates that the scope of the EA or EIS will evaluate a No Action Alternative and an Action Alternative. The No Action Alternative provides a baseline for comparing against the Action Alternative. Under the No Action Alternative, TVA would not redevelop the TVA-owned brownfield property in Lowndes County for energy generation. The Action Alternative would evaluate the development of the NCG site for construction and operation of a CT. Whether these or other alternatives are reasonable warranting further consideration under NEPA would be determined in the course of preparing the EA or EIS.

Anticipated Environmental Impacts

The EA or EIS will include a detailed evaluation of the environmental, social, and economic impacts associated with implementation of the proposed action. Resource areas to be addressed in the EA or EIS include but are not limited to air quality; aquatics; botany; climate change; cultural resources; emergency planning; floodplains; geology and groundwater; land use; noise and vibration; health and safety; soil erosion and surface water; socioeconomics and environmental justice; threatened and endangered species; transportation; visual resources; waste; wetlands; and wildlife. Measures to avoid, minimize, and mitigate adverse effects will be identified and evaluated in the EA or EIS.

Anticipated Permits and Other Authorizations

TVA anticipates seeking required permits or authorizations, as appropriate. TVA's proposed action to construct a CT may also require issuance of an air permit under the Clean Air Act, an Individual or Nationwide Permit under section 404 of the Clean Water Act; section 401 Water Quality Certification; a Mississippi Large Construction Stormwater Permit; conformance with Executive Orders on Environmental Justice (12898), Wetlands (11990), Floodplain Management (11988), Migratory Birds (13186), and Invasive Species (13112); and compliance with Section 106 of the National Historic Preservation Act, section 7 of the Endangered Species Act, and other applicable local, Federal, and State regulations.

Public Participation and Scoping Process

Scoping, which is integral to the process for implementing NEPA, provides an early and open process to ensure that issues are identified early and properly studied; issues of little significance do not consume substantial time and effort; the draft EA or EIS is thorough and balanced; and delays caused by an inadequate EA or EIS are avoided. TVA seeks comment and participation from all interested parties for identification of potential alternatives, information, and analyses relevant to the proposed action in this EA or EIS. Public comments received during the scoping period will assist TVA in determining the appropriate level of NEPA review.

Information about this project is available at https://www.tva.com/nepa, which includes a link to an online public comment page. Comments must be received or postmarked no later than January 19, 2024. Federal, State, local agencies, and Native American Tribes are also invited to provide comments. Please note that any comments received, including names and addresses, will become part of the project administrative record and will be available for public inspection. To facilitate the scoping process, TVA will hold an in-person public open house from 5 p.m. to 7 p.m. on January 8, 2024, at the New Caledonia Community Center located at 205 South St., Caledonia, MS 39740; see the project website for more information on the meeting.

EA or EIS Preparation and Schedule

TVA will consider comments received during the scoping period and develop a scoping report which will be published online. The scoping report will summarize public and agency comments that were received and identify the projected schedule for completing the environmental review process. TVA will post a draft EA or EIS for public review and comment on the project website. TVA anticipates holding a public open house after releasing the draft EA or EIS. TVA expects to release the draft EA or EIS in Spring or Summer 2024 and a final EA or EIS in late 2024. If an EIS is prepared, TVA would publish a Record of Decision at least 30 days after the release of the final EIS.

Authority: 40 CFR 1501.9.

Susan Jacks,
General Manager, Environmental Resource Compliance.

[FR Doc. 2023-26178 Filed 11-27-23; 8:45 am]

BILLING CODE 8120-08-P